DEPARTMENT OF TRANSPORTATION

Federal Aviation Administration

14 CFR Part 39

[Docket No. 2000-SW-03-AD]

Airworthiness Directives; MD Helicopters, Inc. Model MD-900 Helicopters

AGENCY: Federal Aviation Administration, DOT.

ACTION: Notice of proposed rulemaking (NPRM).

SUMMARY: This document proposes the adoption of a new airworthiness directive (AD) for MD Helicopters, Inc. (MDHI) Model MD-900 helicopters. The AD would require modifying the non-rotating swashplate assembly and re-identifying it and the swashplate assembly with a new part number (P/N). The AD would also require creating a component history card or equivalent record to track the life of the newly identified non-rotating swashplate assembly and establishing a life limit of 1800 hours time-in-service (TIS). In addition, the AD would require inspecting and modifying, if necessary, the longitudinal drive link assembly. This proposal is prompted by reports of damage to the longitudinal drive link assembly caused by the sharp inner edge of the bushing in the non-rotating swashplate assembly. The actions specified by the proposed AD are intended to prevent damage to the longitudinal drive link, loss of control of the main rotor system, and subsequent loss of control of the helicopter.

DATES: Comments must be received on or before August 7, 2000.

ADDRESSES: Submit comments in triplicate to the Federal Aviation Administration (FAA), Office of the Regional Counsel, Southwest Region, Attention: Rules Docket No. 2000-SW-03-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Greg DiLibero, Aviation Safety Engineer, FAA, Los Angeles Aircraft Certification Office, Airframe Branch, 3960 Paramount Blvd., Lakewood, California 90712, telephone (562) 627-5231, fax (562) 627-5210.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 2000-SW-03-AD.” The postcard will be date stamped and returned to the commenter.

Availability of NPRMs

Any person may obtain a copy of this NPRM by submitting a request to the FAA, Office of the Regional Counsel, Southwest Region, Attention: Rules Docket No. 2000-SW-03-AD, 2601 Meacham Blvd., Room 663, Fort Worth, Texas 76137.

Discussion

This document proposes the adoption of a new AD for MDHI Model MD-900 helicopters, serial numbers 0008 through 0068. The AD would require modifying the non-rotating swashplate and re-identifying it and the swashplate assembly with a new P/N. The AD would also require creating or modifying the existing component history card or equivalent record to track the life of the newly identified non-rotating swashplate assembly and establishing a life limit of 1800 hours TIS. In addition, the AD would require inspecting and modifying, if necessary, the longitudinal drive link assembly. This proposal is prompted by reports of damage to the longitudinal drive link assembly. The damage is caused by the small clearance between the non-rotating swashplate bushing and the longitudinal drive link combined with the sharp outer edges of the non-rotating swashplate bushing. This condition, if not corrected, could result in damage to the longitudinal drive link, loss of control of the main rotor system, and subsequent loss of control of the helicopter.

The FAA has reviewed MDHI Service Bulletin SB900-071, dated January 10, 2000 (SB), which describes procedures for reworking of the bushing in the non-rotating swashplate assembly, re-identifying the swashplate and the non-rotating swashplate assemblies, and inspecting and repairing the longitudinal drive link assembly.

Since an unsafe condition has been identified that is likely to exist or develop on other MDHI Model MD-900 helicopters of the same type design, the proposed AD would require the following:

• Within the next 100 hours TIS or 3 months, whichever occurs first,

• Modify the non-rotating swashplate assembly, P/N 900C2010192-111 and reidentify as P/N 900C2010192-113 after modification;

• Re-identify swashplate assembly, P/N 900C1010004-125, as P/N 900C1010004-127;

• Create or modify the existing component history card or equivalent record to track the life of the newly identified non-rotating swashplate assembly, P/N 900C2010192-113, including the hours TIS accumulated when it was identified as P/N 900C2010192-111;

• Visually and dye-penetrant inspect and modify, if necessary, the longitudinal drive link assembly, P/N 900C2010212-101.

• Establish a life limit of 1800 hours TIS for the non-rotating swashplate assembly, P/N 900C2010192-113.

The actions would be required to be accomplished in accordance with the SB described previously.

The FAA estimates that 28 helicopters of U.S. registry would be affected by this proposed AD, that it would take approximately 2 work hours per helicopter to accomplish the proposed actions, and that the average labor rate is $60 per work hour. Required parts would cost approximately $1164 per helicopter. Based on these figures, the total cost impact of the proposed AD on U.S. operators is estimated to be $35,952.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

MD Helicopters Inc.: Docket No. 2000-SW-03-AD

Applicability: Model MD-900 helicopters, serial numbers 0008 through 0068, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent damage to the longitudinal drive link, loss of control of the main rotor system, and subsequent loss of control of the helicopter, accomplish the following:

(a) Within the next 100 hours time-in-service (TIS) or 3 months, whichever occurs first:

(1) Modify the non-rotating swashplate assembly, part number (P/N) 900C2010192-111, in accordance with the Accomplishment Instructions, paragraphs 2.A.(1). and 2.A.(2)., of MD Helicopters (MDHI) Service Bulletin SB900-071, dated January 10, 2000 (SB).

(2) Re-identify swashplate assembly, P/N 900C1010004-125, as P/N 900C1010004-127, and non-rotating swashplate assembly, P/N 900C2010192-111, as P/N 900C2010192-113 using contrasting color permanent ink. When the ink is dry, apply varnish over the P/N.

(3) Create or modify the existing component history card or equivalent record to track the life of the non-rotating swashplate assembly, P/N 900C2010192-113. Include the hours TIS accumulated when P/N 900C2010192-113 was identified as P/N 900C2010192-111.

(4) Visually and dye-penetrant inspect the longitudinal drive link assembly, P/N 900C2010212-101, for gouging and cracking in accordance with the Accomplishment Instructions, paragraph 2.B.(1). and 2.B.(2). of the SB except that returning scrap parts to MDHI is not required by this AD.

(i) If a crack is found, before further flight, replace the longitudinal drive link assembly, P/N 900C2010212-101, with an airworthy longitudinal drive link assembly.

(ii) If gouging is found, modify the longitudinal drive link assembly, P/N 900C2010212-101, in accordance with the Accomplishment Instructions, paragraph 2.B.(3). of the SB.

(b) This AD revises the Airworthiness Limitations Section of the applicable maintenance manual by establishing a retirement life of 1800 hours TIS for the non-rotating swashplate assembly, P/N 900C2010192-113.

(c) An alternative method of compliance or adjustment of the compliance time that provides an acceptable level of safety may be used if approved by the Manager, Los Angeles Aircraft Certification Office. Operators shall submit their requests through an FAA Principal Maintenance Inspector, who may concur or comment and then send it to the Manager, Los Angeles Aircraft Certification Office.

Note 2: Information concerning the existence of approved alternative methods of compliance with this AD, if any, may be obtained from the Los Angeles Aircraft Certification Office.

(d) Special flight permits may be issued in accordance with §§ 21.197 and 21.199 of the Federal Aviation Regulations (14 CFR 21.197 and 21.199) to operate the helicopter to a location where the requirements of this AD can be accomplished.

Issued in Fort Worth, Texas, on May 25, 2000.
Eric Bries,
Acting Manager, Rotorcraft Directorate, Aircraft Certification Service.

[FR Doc. 00-14195 Filed 6-5-00; 8:45 am]

BILLING CODE 4910-13-U